DEPARTMENT OF TRANSPORTATION

Federal Aviation Administration

14 CFR Part 39

[Docket No. 2001-NM-79-AD; Amendment 39-12203; AD 2001-08-26]

RIN 2120-AA64

Airworthiness Directives; Airbus Model A319 and A320 Series Airplanes Equipped with Elevator and Aileron Computer (ELAC) L80 Standard

AGENCY: Federal Aviation Administration, DOT.

ACTION: Final rule; request for comments.

SUMMARY: This amendment adopts a new airworthiness directive (AD) that is applicable to certain Airbus Model A319 and A320 series airplanes. This action requires revising the Airplane Flight Manual (AFM) to specify procedures for landing under certain conditions of gusty winds and turbulence. This action is prompted by a report of a recent hard landing on a Model A320 series airplane equipped with ELAC L80 standard, which was caused by activation of the high angle-of-attack protection during a landing in gusty winds and turbulence. This action is necessary to prevent activation of the high angle-of-attack protection during final approach for landing, which could result in loss of ability to flare properly during landings. This action is intended to address the identified unsafe condition.

DATES: Effective May 11, 2001.

Comments for inclusion in the Rules Docket must be received on or before May 29, 2001.

ADDRESSES: Submit comments in triplicate to the Federal Aviation Administration (FAA), Transport Airplane Directorate, ANM-114, Attention: Rules Docket Number 2001-NM-79-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-79-AD” in the subject line and need not be submitted in triplicate. Comments sent via the Internet as attached electronic files must be formatted in Microsoft Word 97 for Windows or ASCII text.

Information pertaining to this amendment may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: The Direction Générale de l'Aviation Civile (DGAC), which is the airworthiness authority for France, notified the FAA of the recent hard landing of a Model A320 series airplane, equipped with Elevator and Aileron Computer (ELAC) L80 standard. During a landing in gusty winds with turbulence, the pilot was not able to prevent the airplane from touching down on the runway at an excessive vertical speed. The airplane contacted the runway in a slight nose down position. The nose landing gear collapsed and the main landing gear and the nacelles were damaged.

Analysis indicated that the combination of certain wind conditions and certain pilot side stick inputs resulted in activation of the ELAC high angle-of-attack protection during final approach, which prevented the pilot from conducting a normal flare.

Explanation of Relevant Service Information

Airbus has issued Operator Information Telex (OIT) 999.0036/01/CL, dated March 23, 2001, which provides procedures for landing in gusty and turbulent wind conditions for all Airbus Model A319 and A320 series airplanes equipped with ELAC L80 standard. The DGAC has issued French Telegraphic Airworthiness Directive No. T2001-106 (B), dated March 26, 2001, to require incorporation of these procedures into the Aircraft Flight Manual (AFM), in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to prevent activation of the high angle-of-attack protection during final approach for landing in gusty wind and turbulent conditions, which could result in loss of the ability to flare properly during landing. This AD requires revising the Limitations Section of the FAA-approved AFM for Airbus Model A319 and A320 series airplanes to include procedures for landing under certain conditions of gusty winds and turbulence, as specified in Airbus OIT 999.0036/01/CL, dated March 23, 2001.

Interim Action

This AD is considered interim action. Airbus has advised that it is developing a new ELAC standard to modify the high angle-of-attack protection logic in such conditions. Once the modification is developed, approved, and available, the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-79-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-08-26 Airbus Industrie: Amendment 39-12203. Docket 2001-NM-79-AD.

Applicability: Model A319 and A320 series airplanes; certificated in any category; equipped with Elevator and Aileron Computer (ELAC) L80 Standard having part numbers listed in Airbus Operator Information Telex (OIT) 999.0036/01/CL, dated March 23, 2001.

Compliance: Required as indicated, unless accomplished previously.

To prevent activation of the high angle-of-attack protection during final approach for landing, which could result in loss of the ability to flare properly during landings, accomplish the following:

Revision of Airplane Flight Manual (AFM)

(a) Within 10 days after the effective date of this AD: Revise the Limitations Section of the FAA-approved AFM to incorporate the following procedures. This may be accomplished by inserting a copy of this AD into the FAA-approved AFM.

“FOR APPROACH TO RUNWAYS WITH KNOWN GUSTY ENVIRONMENT, ESPECIALLY IF THESE CONDITIONS GENERATE VERTICAL GUSTS DUE TO THE SURROUNDING TERRAIN,

OR

—REPORTED GUST WIND INCREMENT (MAX. WIND MINUS AVERAGE WIND) HIGHER THAN 10 KT,

OR

—EXPECTED MODERATE TO SEVERE TURBULENCE ON SHORT FINAL,

THE FLIGHT CREW SHOULD STRICTLY ADHERE TO THE FOLLOWING PROCEDURE:

—USE CONF 3 FOR APPROACH AND LANDING,

—MINIMUM VAPP IS VLS + 10 KT; THE RECOMMENDATION TO USE MANAGED SPEED REMAINS VALID,

—CORRECT THE LANDING DISTANCE FOR THE SPEED INCREMENT,

—IF “SINK RATE” GPWS WARNING OCCURS BELOW 200 FT, IMMEDIATELY INITIATE A GO AROUND.”

Alternative Methods of Compliance

(b) An alternative method of compliance or adjustment of the compliance time that provides an acceptable level of safety may be used if approved by the Manager, International Branch, ANM-116. Operators shall submit their requests through an appropriate FAA Principal Maintenance Inspector, who may add comments and then send it to the Manager, International Branch, ANM-116.

Note 1: Information concerning the existence of approved alternative methods of compliance with this AD, if any, may be obtained from the Manager, International Branch. ANM-116.

Special Flight Permits

(c) Special flight permits may be issued in accordance with sections 21.197 and 21.199 of the Federal Aviation Regulations (14 CFR 21.197 and 21.199) to operate the airplane to a location where the requirements of this AD can be accomplished.

Note 2: The subject of this AD is addressed in French Telegraphic Airworthiness Directive T2001-106 (B), dated March 26, 2001.

Effective Date

(d) This amendment becomes effective on May 11, 2001.

Issued in Renton, Washington, on April 19, 2001.
Donald L. Riggin,
Acting Manager, Transport Airplane Directorate, Aircraft Certification Service.

[FR Doc. 01-10340 Filed 4-25-01; 8:45 am]

BILLING CODE 4910-13-P